DEPARTMENT OF VETERANS AFFAIRS

DEPARTMENT OF DEFENSE

Department of the Navy

National Cemetery Administration; Record of Decision for the Annex to the Fort Rosecrans National Cemetery at Marine Corps Air Station Miramar, San Diego, CA

AGENCY: National Cemetery Administration, DVA and Department of the Navy, DoD.

ACTION: Notice of Record of Decision.

SUMMARY: Pursuant to Section 102(2)(c) of the National Environmental Policy Act (NEPA) of 1969, 42 U.S.C. 4332(2)(c), and the regulations of the Council on Environmental Quality that implement NEPA procedures, 40 CFR Parts 1500-1508, the Department of Veterans Affairs, National Cemetery Administration (VA) and the Department of the Navy (DON) announce their decision to enter into a land use agreement for the construction and operation of an annex to the existing Fort Rosecrans National Cemetery at Marine Corps Air Station (MCAS) Miramar, in San Diego, California. The land use agreement between the DON and the VA will govern the construction and operation of the cemetery annex at MCAS Miramar at Site 2, the preferred alternative, as described in the Final Environmental Impact Statement (FEIS) of July 2007.

FOR FURTHER INFORMATION CONTACT: Ms. Hiphil Clemente, Naval Facilities Engineering Command, Southwest, 1220 Pacific Highway, San Diego, California 92132-5190, telephone: 619-532-3781, e-mail hiphil.clemente@navy.mil.

SUPPLEMENTARY INFORMATION: The VA operates the Fort Rosecrans National Cemetery, located on the Point Loma Submarine Base, San Diego, California. The VA identified a need for additional burial space for the approximately 253,000 San Diego area military veterans over the next 20 to 30 years. The purpose of the proposed action is to meet the mission of the VA to provide burial space on federal land for military veterans in the San Diego area. Fort Rosecrans National Cemetery, the only national cemetery in San Diego County, has been closed to casketed burials since 1966. It is scheduled to be closed to burials of cremated remains by 2008 and has no additional land available for expansion.

Alternatives Considered: A screening process, based upon criteria set out in the EIS, identified a reasonable range of alternatives that would satisfy the VA's purpose and need while preserving the capabilities of DON to conduct military training. Two site alternatives and the no action alternative were analyzed in detail in the EIS.

The preferred alternative, Site 2, is 323 acres in size and located in the northwest corner of MCAS Miramar. The development footprint for Site 2 is approximately 214 acres. The site is bounded by Miramar Road to the north, the commuter/freight railway to the south and east, and the western boundary of MCAS Miramar to the west. Vehicular access will be via Miramar Road to the north and Nobel Drive to the northwest. Based on the conceptual site plan, Site 2 will provide 50,000 casketed gravesites and 40,000 columbarium niches. As part of cemetery annex establishment, a Public Information Center and Visitor Orientation Facility will be constructed near the main entrance and cortege assembly area. It will consist of a combination building/covered plaza and will include a small visitor parking area separate from the cortege assembly area, and public restrooms and electronic gravesite locator for visitors. Two Committal Service Shelters will be provided for away-from-gravesite internment services. The cemetery annex will have a stand-alone flag area, designed and landscaped to maximize the attractiveness and dignity of the place. The area will include a flagpole, a turf assembly area for ceremonies and small gatherings, and a focal point that could be used by speakers. Separate Administrative and Maintenance Complexes will be constructed, including office and workspace for cemetery staff. The Maintenance Complex will include a 13,700-square feet maintenance yard to accommodate the unloading of a tractor-trailer truck. The cemetery annex will include parking for visitors and staff, signage, benches, recycling and trash receptacles, and flower containers. With the selection of the Site 2 Alternative, master planning and design of the new cemetery annex will take place. The facilities and burial sites to be developed will stay within the project footprint identified in the Final EIS.

The Site 4 Alternative is located in the south-central portion of MCAS Miramar in the former Camp Elliott area and is approximately 175 acres. The site is completely surrounded by limited-access highways with State Route 163 to the west, State Route 52 to the south, and Interstate 15 to the east. Kearny Villa Road traverses the site in a north-south direction. The Site 4 Alternative would be developed similar to the Site 2 Alternative. The maximum number of casketed gravesites would be 31,000 and 26,000 columbarium niches for cremated remains.

Under the no action alternative, there would be no land use agreement between the DON and the VA for the construction and operation of an annex to Fort Rosecrans National Cemetery. The no action alternative is the environmentally preferred alternative because it does not involve any change to the physical environment. However, this alternative does not meet the purpose and need of the Proposed Action to provide needed burial space on federal land for military veterans in the San Diego area.

Other alternatives were considered, but dismissed as not being practicable. These include 2 other sites on MCAS Miramar, other Federal lands in the San Diego area, and purchase of land by the VA for the cemetery annex.

Environmental Impacts: The VA and the DON prepared an EIS to evaluate the potential environmental impacts associated with the implementation of each of the alternatives for the following resource areas: Land use; socioeconomics/environmental justice; utilities; public services; visual resources; cultural resources; biological resources; soils and geology; water resources; public health and safety; traffic/circulation; air quality; and noise. Chapter 4 of the FEIS provides a detailed discussion of impacts and mitigation measures.

The preferred alternative, Site 2, presents no significant impacts to land use, socioeconomics/environmental justice, utilities, public services, visual resources, cultural resources, soils and geology, water resources, public health and safety, traffic/circulation; and air quality; thus no mitigation measures are offered for those resources. Implementation of the preferred alternative will result in impacts to biological resources and land use compatibility with noise from nearby military aviation facilities.

Formal consultation with the U.S. Fish and Wildlife (USFWS) resulted in several redesigns of the Site 2 development footprint to reduce potential impacts to sensitive biological resources. The redesigns ultimately reduced the development footprint from 323 acres to 214 acres, although the parcel that is the subject of the land use agreement remains at 323 acres. The proposed action will impact approximately 213.60 acres of undeveloped land, including 17.16 acres of regionally rare plant communities. Approximately 12.97 acres of largely disturbed habitat recently occupied by coastal California gnatcatcher (Polioptila californica californica; CAGN) will also be impacted. Additionally, two vernal pools (0.010 acre) and 27 man-made depressions (0.299 acre) with San Diego fairy shrimp (Branchinecta sandiegonensis; SDFS) and 4 vernal pools (0.013 acre) with no federally listed species will be directly impacted. Development of Site 2 will also impact five ephemeral drainages totaling approximately 3,333 feet and 0.230 acre.

Aircraft noise levels over Site 2 range from 68-79 A-weighted decibels (dBA) Community Noise Equivalent Level (CNEL). Cemeteries are a compatible use in this noise range, with the stipulation that noise reduction be provided in buildings where the public is received and in other noise sensitive areas or where the noise level should be low. In these noise-sensitive areas, the interior noise level must be reduced to less than 50 dBA CNEL.

Mitigation: Unless otherwise specified, mitigation measures identified in the FEIS and the U.S. Fish and Wildlife Service Biological Opinion are the responsibility of the VA, and such measures will be specified in the land use agreement governing the relationship between the VA and the DON.

Mitigation measures for impacts to biological resources will be implemented in accordance with the mitigation planning guidance in the MCAS Miramar Integrated Natural Resources Management Plan. Additionally, all reasonable and prudent measures and terms and conditions of the USFWS Biological Opinion issued on 6 April 2007 (1-6-06-F-4652.3) will be incorporated into the project.

Permanent direct effects to plant communities/vegetative cover will be compensated for as follows:

• Compensation for permanently, directly affected undisturbed and suitable native plant communities recently occupied by the CAGN at a ratio of 2:1;

• Compensation for permanently, directly affected disturbed and suitable native plant communities recently occupied by the CAGN at a ratio of 1:1;

• Compensation for permanently, directly affected disturbed habitat recently occupied by the CAGN at a ratio of 0.5:1; and

• Compensation for permanently, directly affected regionally rare but unoccupied plant communities at a ratio of 1:1 for undisturbed habitat and at a ratio of 0.5:1 for disturbed habitats.

Based on the ratios above, compensation for impacts to approximately 12.97 acres of plant communities/vegetative cover will be 15.98 acres. Compensation will be provided through the VA's acquisition of habitat for permanent preservation accompanied by a one-time contribution for long-term management. The locations of compensation lands will be off MCAS Miramar, and are anticipated to be within the East Fortuna Mountain Preserve within Mission Trails Regional Park, east of MCAS Miramar.

Permanent direct effects to SDFS and the basins supporting the species will be compensated for as follows:

• Compensation for permanently, directly affected, relatively undisturbed, vernal pools that support SDFS, at a ratio of 3:1;

• Compensation for permanently, directly affected, relatively undisturbed or degraded vernal pools without the presence of federally listed species, at a ratio of 1:1 to obtain no net loss; and

• Man-made depressions (i.e., ruts, puddles, impoundments, ditches) with SDFS and vernal pool indicator plants at a ratio of 1.5:1.

Based on the ratios above, compensation impacts to approximately 0.322 acre of vernal habitat will be 0.492 acre. Compensation will occur through restoration/reestablishment of similar quality habitat within the 323-acre parcel that is the subject of the land use agreement. This compensation will include the development and implementation of a restoration, management, and monitoring plan that will outline the process and guidelines of restoration and reestablishment for off-site vernal pool habitat.

Impacts to jurisdictional waters are anticipated with the project. Review and approval by the Army Corps of Engineers (ACOE) for all jurisdiction impacts will be needed to determine final Clean Water Act permitting requirements. A formal wetland assessment of the functions and values of the wetlands and waters for the project site will be conducted, and will consist of a jurisdictional delineation (i.e., determining whether stream features are jurisdictional waters or contain jurisdictional wetlands) within proposed permanent impacts areas and outside the proposed project footprint for temporary impacts related to construction activities. A formal ACOE jurisdictional determination and delineation report for waters and wetlands will be required for submittal to the ACOE and USFWS to request their review and concurrence of the determination and delineation results. The majority of the drainages within the property are unvegetated waters that would be regulated by the ACOE. The results of this assessment in coordination with the ACOE and USFWS will determine the measures required to mitigate for any impacts to the wetland areas. The VA will be responsible for these studies and the subsequent permitting and mitigation, if required. Wetland mitigation will occur off MCAS Miramar or, if off-Station mitigation is not practicable, within the 323-acre parcel that is the subject of the land use agreement.

To reduce the interior noise levels to a satisfactory level, the VA will design the Administrative Complex to provide an interior noise level less than 50 dBA CNEL.

Although there would be no significant impacts to air quality resulting from the construction and operation of the cemetery, the VA will incorporate measures identified in the FEIS to minimize air emissions from grading, earthwork, and operations.

The VA will promote green building practices identified in the FEIS. This includes, but is not limited to, maximizing the use of reclaimed water for irrigation and non-potable purposes, exploring the use of renewable energy such as solar power where feasible, and providing recycling receptacles throughout the project area.

The preferred alternative presents no other significant impacts that cannot be mitigated.

Response to Comments Received Regarding the Final Environmental Impact Statement: The FEIS was distributed to government agencies and the public on 7 September 2007, for a 30-day public review period. Comments were received from the U.S. Environmental Protection Agency (USEPA), Region IX. USEPA reiterated its previously submitted concerns regarding compensation for permanent impacts to biological resources, including habitats that are rare and/or support endangered species. They continue to recommend a 1:1 compensation ratio for impacts to regionally rare and declining habitats, even if disturbed, and for DoN to compensate for impacts to occupied grasslands. This issue was addressed in the FEIS and the responses to comments on the DEIS.

USEPA also acknowledged the consideration of its recommendations to promote green building practices and reduce air emissions from construction and requested that a commitment to these practices and measures be included in the ROD. The ROD includes this commitment.

Conclusions: After careful consideration of the purpose and need for the proposed action, the analysis contained in the EIS, and the comments received on the EIS from Federal, state, and local agencies, non-governmental organizations, and individual members of the public, I have determined that the preferred alternative, Site 2, will best meet the needs of the DON and VA for the following reasons:

• It will provide 50,000 full-casket burial sites (19,000 more than site 4) and will provide 40,000 columbarium niches (14,000 more than site 4).

• It has less permanent direct effects to SDFS and the basins supporting this species. Additionally, it has no impacts to San Diego mesa mint (Pogogyne abramsii).

• It has no significant traffic/circulation impacts.

• It has no significant public health and safety or land use impacts.

For: Department of Veterans Affairs.
Dated: January 7, 2008.
William F. Tuerk,
Under Secretary for Memorial Affairs.
For: Department of the Navy.
Dated: April 1, 2008.
BJ Penn,
Assistant Secretary of the Navy (I&E).

[FR Doc. E8-7498 Filed 4-9-08; 8:45 am]

BILLING CODE 3810-FF-P